DEPARTMENT OF TRANSPORTATION

National Highway Traffic Safety Administration

[Docket No. NHTSA-2016-0049]

Model Minimum Uniform Crash Criteria

AGENCY: National Highway Traffic Safety Administration (NHTSA), Department of Transportation (DOT).

ACTION: Notice and request for comments.

SUMMARY: The National Highway Traffic Safety Administration (NHTSA), in coordination with the Governors Highway Safety Association (GHSA), the Federal Highway Administration (FHWA), and the Federal Motor Carrier Safety Administration (FMCSA), are in the process of reviewing the Guidelines for the Model Minimum Uniform Crash Criteria (MMUCC) Fourth Edition, dated December 2012, and request comments to determine if updates or improvements are appropriate. The MMUCC provides States with a dataset for describing crashes of motor vehicles in transport that generates the information necessary to improve highway safety within each State and nationally. Crash data users may comment on the utility of the current MMUCC guidelines and suggest changes for the next update to MMUCC. Based on the input received in response to this notice, NHTSA and GHSA anticipate issuing draft changes to the Guidelines by fall 2017.

DATES: Comments must be received on or before June 20, 2016.

ADDRESSES: You may submit comments identified by DOT Docket ID number NHTSA-2016-0049 or by any of the following methods:

• Federal eRulemaking Portal: Go to http://www.regulations.gov. Follow the online instructions for submitting comments.

• Mail: Docket Management Facility, M-30 U.S. Department of Transportation, West Building, Ground Floor, Room W12-140, 1200 New Jersey Ave. SE., Washington, DC 20590.

• Hand Delivery or Courier: Docket Management Facility, M-30 U.S. Department of Transportation, West Building, Ground Floor, Room W12-140, 1200 New Jersey Ave. SE., Washington, DC 20590, between 9 a.m. and 5 p.m. Eastern time, Monday through Friday, except Federal holidays.

• Fax: 202-493-2251.

• Governors Highway Safety Association Web site: Go to www.ghsa.org. Follow the online instructions for submitting comments.

Regardless of how you submit your comments, you should identify the Docket number of this notice.

Note that all comments received in response to this notice at www.regulations.gov or www.ghsa.org will be posted without change to http://www.regulations.gov, including any personal information provided. Please read the “Privacy Act” heading below.

Privacy Act: Anyone is able to search the electronic form of all comments received into any of our dockets by the name of the individual submitting the comment (or signing the comment, if submitted on behalf of an association, business, labor union, etc.). You may review DOT's complete Privacy Statement in the Federal Register published on April 11, 2000 (65 FR 19477-78) or you may visit http://docketsInfo.dot.gov.

Confidential Information: If you wish to submit any information under a claim of confidentiality, you should submit three copies of your complete submission, including the information you claim to be confidential business information, to the Chief Counsel, NHTSA, 1200 New Jersey Avenue SE., Washington, DC 20590-0001. In addition, you should submit two copies, from which you have deleted the claimed confidential business information, to Docket Management at the address given above under ADDRESSES. When you send a comment containing information claimed to be confidential business information, you should include a cover letter setting forth the information specified in our confidential business information regulation. (49 CFR part 512) Docket: For access to the docket to read background documents or comments received, go to http://www.regulations.gov or the street address listed above. Follow the online instructions for accessing the dockets.

Docket: For access to the docket to read background documents or comments received, go to http://www.regulations.gov at any time or to West Building Ground Floor, Room W12-140, 1200 New Jersey Avenue SE., Washington, DC, between 9 a.m. and 5 p.m., Eastern Time, Monday through Friday, except Federal holidays.

FOR FURTHER INFORMATION CONTACT: For programmatic issues: John Siegler, Office of Traffic Records and Analysis, NSA-221, National Highway Traffic Safety Administration, 1200 New Jersey Avenue SE., Washington, DC 20590. Telephone (202) 366-1268.

SUPPLEMENTARY INFORMATION: The Model Minimum Uniform Crash Criteria (MMUCC) provides a dataset for describing crashes of motor vehicles in transport that generates the information necessary to improve highway safety within each State and nationally. Statewide motor vehicle traffic crash data systems provide the basic information necessary for effective highway and traffic safety efforts at any level of government—local, State, or Federal. State crash data are used to perform problem identification, establish goals and performance measures, allocate resources, determine the progress of specific programs, and support the development and evaluation of highway and vehicle safety countermeasures. Unfortunately, the use of State crash data is often hindered by the lack of uniformity between and within States.

MMUCC represents a voluntary and collaborative effort to generate uniform crash data that are accurate, reliable, and credible for data-driven highway safety decisions within a State, between States, and at the national level. MMUCC was originally developed in response to requests by States interested in improving and standardizing their State crash data. Lack of uniform reporting made the sharing and comparison of State crash data difficult. Different elements and definitions resulted in incomplete data and misleading results. MMUCC recommends voluntary implementation of a “minimum set” of standardized data elements to promote comparability of data within the highway safety community. It serves as a foundation for State crash data systems. The next planned update of the MMUCC Guideline is scheduled for 2017.

Implementation of MMUCC is a collaborative effort involving NHTSA, the GHSA, FHWA, and FMCSA. Additional information about the MMUCC update can be found on the Governor's Highway Safety Association Web site www.ghsa.org. Full text of the current version of the Guidelines (MMUCC Fourth Edition, 2012) can be viewed in the docket or on the National Highway Traffic Safety Administration's Web site at http://www-nrd.nhtsa.dot.gov/Pubs/811631.pdf.

Terry T. Shelton,
Associate Administrator for the National Center for Statistics and Analysis.

[FR Doc. 2016-09231 Filed 4-20-16; 8:45 am]

BILLING CODE P